DEPARTMENT OF AGRICULTURE

Forest Service

Black Hills National Forest, Mystic Ranger District, South Dakota, Section 30 Limestone Mining Proposal

AGENCY: Forest Service, USDA.

ACTION: Corrected Notice of Intent to prepare an environmental impact statement.

SUMMARY: A Plan of Operation has been submitted by Pete Lien and Sons, Inc., for the purpose of mining for chemical grade limestone within mining claims on National Forest System land. The proposal is to mine within Pennington County totaling approximately 100 acres about one mile north of the northwest boundary of Rapid City, South Dakota. The original Notice of Intent for this project was published in Federal Register (71 FR 208, pg. 62989) on Friday, October 27, 2006. This corrected Notice of Intent is being republished due to time lapse between the original publication of the NOT and the new estimated Draft and Final ETS publication dates.

DATES: The draft environmental impact statement is expected to be available for public review in December of 2009 and the final environmental impact statement is expected to be completed by March of 2010.

FOR FURTHER INFORMATION CONTACT: Dave Slepnikoff, Project Coordinator, Black Hills National Forest, Mystic Ranger District, at above address, phone (605) 343-1567.

SUPPLEMENTARY INFORMATION:

Purpose and Need for Action

The Purpose and Need for this project is authorization of Pete Lien and Sons, Inc., proposal to exercise their rights under U.S. mining laws while protecting the environment in accordance with Forest Service regulations for locatable minerals. The Purpose and Need has several components. Pete Lien and Sons, Inc. has a statutory right to extract locatable minerals (chemical grade limestone) as proposed in accordance with the General Mining Law of 1872, as amended (30 U.S.C. 21-54). The Forest Service has the responsibility to protect surface resources of National Forest System lands to the extent practicable. Forest Service mining regulations state that, “operations shall be conducted so as, where feasible, to minimize adverse impacts on National Forest System surface resources (36 CFR 228.8).”

Proposed Action

The proposed action is to approve the Plan of Operation (PoO) submitted by Pete Lien and Sons, Inc. to mine approximately 100 acres of National Forest System lands on the PLS 30-1 through PLS 30-10 Lode Mining Claims, SDMMC #209097. The Plan of Operations was developed by Pete Lien and Sons, Inc. It was submitted to the Forest Service in accordance with the General Mining Law of 1872, as amended and Forest Service mining regulations at 36 CFR 228 Subpart A. The Project is located between Rapid City and Black Hawk, South Dakota. Legal description is; T.2N., R.7E., NE. ¼ Section 30, BHM.

The Plan of Operation is summarized as follows:

• It is estimated that the operation will process approximately 10 million tons of limestone. The life of the proposed mine is estimated at 10 years, not including final reclamation.

• Remove vegetation, stockpile topsoil for future reclamation, drill and blast rock to remove an approximate 20 foot bed of limestone rock resulting in an open pit with approximately 20 foot high walls.

• Blasted rock may be crushed on site to reduce size for hauling. Raw materials will be hauled to the east of Highway 79 for processing into chemical grade limestone products.

• Concurrent reclamation is planned. Therefore approximately 60 acres will be disturbed at any one time. Reclamation will result in a depression on the existing hillside. High walls will be reduced, site graded, topsoil applied, and vegetation planted once mineral extraction is complete.

• The Mine Safety and Health Administration (MSHA) will be responsible for enforcing mine safety regulations. The mine site will be enclosed by fences and gates as required by MSHA and other regulatory guidance.

Pete Lien and Sons, Inc. will secure permits for all mining and reclamation activities as required by law. Several permits have been obtained or will be obtained pending the NEPA analysis and decision. Notable permit requirements include:

• Clean Water Act—Apply for construction/mining activity permit with National Pollutant Discharge Elimination System (NPDES).

• Clean Air Act—Permit or permits will be obtained to ensure that equipment and dust control measures comply with the Clean Air Act.

• South Dakota Mining License—Pete Lien and Sons, Inc. currently has a mining license inclusive of the relevant portion of Section 30. The proposed mine may be exempt from further state permitting per a statutory exemption for the extraction of cement precursors.

• Pennington County Construction (Mining) Permit—Pete Lien and Sons, Inc. will notify the County of its schedule and plans to initiate mining on Section 30. Construction permit CP 01-05 specifies the scope of the County's further review of road impacts, drainage, and other matters related to mining on Section 30.

Responsible Official

Craig Bobzien, Forest Supervisor, Black Hills National Forest, 1019 North 51 Street, Custer, South Dakota 57730-7239.

Nature of Decision To Be Made

The Forest Supervisor will decide whether the proposed action will proceed as proposed or as modified by an alternative. Also, he will decide which recommended mitigation measures and monitoring requirements will be applied. Finally, he will decide if a Forest Plan Amendment is required.

Scoping Process

The Forest Service advertised the proposal in the Rapid City Journal, newspaper of record on Friday, October 27, 2006. The project is listed in the Black Hills National Forest Quarterly NEPA calendar. Adjacent landowners, known interested parties, and government agencies received letters describing the project and identifying the project timeframe. Scoping comments were received by November 27, 2006. Art informational and public meeting was held on November 14, 2006, at 7 p.m. in the Black Hawk Elementary School Gymnasium regarding this project proposal.

Preliminary Issues

At this time, project planners are aware of issues related to cultural (heritage) resources and scenic quality. Through the Scoping process, we will use comments obtained about the proposed action to determine the breadth of issues to be addressed in the analysis.

The potential for adverse affects to heritage resources has been identified as an issue for this proposed undertaking. A number of archaeological sites have been identified and recorded in the project area as a result of heritage resource surveys. Five of these sites have been evaluated as eligible for nomination to the National Register of Historic Places. Through consultation with Indian Tribes, use of this area for religious activities has also been documented. Pursuant to the National Historic Preservation Act (NHPA), the Forest is in consultation with Indian Tribes and the South Dakota State Historic Preservation Office to develop measures of avoidance and/or mitigation for significant cultural and archaeological values by the proposed undertaking. Successful completion of consultation pursuant to the NHPA would result in a Memorandum of Agreement that will implement avoidance or mitigation of significant heritage resources in the Area of Potential Affect.

The existing vegetation will be removed prior to mining. The current scenic view will be altered from visible vantage points.

Comment Requested

This notice of intent corrects information in the original NOI. The original NOI initiated the scoping process which guides the development of the environmental impact statement. The Forest Service sought information that planners may not have been aware of, or comments and/or concerns regarding potential effects of the proposal to authorize mining on the Section 30 PLS Lode Mining Claims. Early Notice of Importance of Public Participation in Subsequent Environmental Review: A draft environmental impact statement will be prepared for comment.

The comment period on the draft environmental impact statement will be for 45 days from the date the Environmental Protection Agency publishes the Notice of Availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the Draft Environmental Impact Statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: September 29, 2009.
Craig Bobzien,
Forest Supervisor, Black Hills National Forest.

[FR Doc. E9-24027 Filed 10-6-09; 8:45 am]

BILLING CODE 3410-11-M